DEPARTMENT OF THE INTERIOR

National Park Service

National Capital Region, Rock Creek Park; Notice of Meeting and Request for Public Comment

The National Park Service is seeking public comments regarding its consideration to ease its overnight mooring restriction at Washington Harbor, changing the overnight mooring closure from Midnight until 6 a.m., to 2 a.m, until 6 a.m.

A public meeting will be held on April 2, from 7 p.m. until 9 p.m., at the Thompson's Boat Center at Virginia Avenue, N.W., and the Rock Creek and Potomac Parkway, in Washington, DC.

SUPPLEMENTARY INFORMATION: Pursuant to 36 CFR 1.5(a), the National Park Service has had for a number of years an overnight mooring restriction at Washington Harbour that has been from midnight until 6 a.m. It is considering easing the restriction by changing it to 2 a.m. until 6 a.m. The National Park Service requests public comment on this proposed change. Oral and written comments will be accepted at the public meeting which will be held at the address and time listed above. Written comments will also be accepted from now until May 2, 2001, and should be sent to Rock Creek Park, 3545 Williamsburg Lane, NW, Washington, DC 20008-1207.

All written comments will be available for public review. We anticipate that we will either tape record or transcribe oral comments that are submitted at the April 2 meeting, and that these comments will also be available for public review.

FOR FURTHER INFORMATION CONTACT: Rock Creek Park Superintendent Adrienne Coleman at (202) 282-1063.

Dated: March 1, 2001.
Joseph M. Lawler,
Acting Regional Director, National Capital Region.

[FR Doc. 01-6744 Filed 3-16-01; 8:45 am]

BILLING CODE 4310-70-M